DEPARTMENT OF THE INTERIOR

Bureau of Land Management

[CACA 7817]

Public Land Order No. 7736; Partial Revocation of the Bureau of Reclamation Order Dated February 19, 1952; California

AGENCY: Bureau of Land Management, Interior.

ACTION: Public Land Order.

SUMMARY: This order revokes a Bureau of Reclamation Order insofar as it affects 20 acres of National Forest System land withdrawn for reclamation purposes. This order also opens the land to exchange.

DATES: Effective Date: September 23, 2009.

FOR FURTHER INFORMATION CONTACT: Duane Marti, Realty Specialist, Bureau of Land Management, at (916) 978-4675 or via e-mail at Duane_Marti@ca.blm.gov; or Janice Gordon, Realty Specialist, Forest Service, at (530) 621-5266 or via e-mail at jgordon@fs.fed.us.

SUPPLEMENTARY INFORMATION: The land was withdrawn on behalf of the Bureau of Reclamation as part of the American River Division, Sly Park Unit of the Central Valley Reclamation Project. The land is part of the National Forest System land managed by the Eldorado National Forest. The partial revocation is needed to facilitate the completion of a pending land exchange between the Forest Service and the El Dorado Irrigation District. The land is no longer needed for reclamation purposes and the Bureau of Reclamation has concurred with the partial revocation.

Order

By virtue of the authority vested in the Secretary of the Interior by Section 204 of the Federal Land Policy and Management Act of 1976, 43 U.S.C. 1714 (2006), it is ordered as follows:

1. The Bureau of Reclamation Order dated February 19, 1952, is hereby revoked insofar as it affects the following described land:

Mount Diablo Meridian

T. 10 N., R. 13 E.,

Sec. 16, W½NE¼NW¼.

The area described contains 20 acres in El Dorado County.

2. At 10 a.m. on September 23, 2009, the land described above will be open to exchange pursuant to the General Exchange Act of 1922, 16 U.S.C. 485 (2006), and Section 206 of the Federal Land Policy and Management Act of 1976, 43 U.S.C. 1716 (2006).

Dated: September 9, 2009.
Wilma A. Lewis,
Assistant Secretary—Land and Minerals Management.

[FR Doc. E9-22846 Filed 9-22-09; 8:45 am]

BILLING CODE 3410-11-P